DEPARTMENT OF AGRICULTURE

Rural Utilities Service

Southern Intertie Project; Notice of Availability of a Record of Decision

AGENCY: Rural Utilities Service, USDA.

ACTION: Notice of availability of a record of decision.

SUMMARY: Notice is hereby given that the Rural Utilities Service (RUS), has issued a Record of Decision (ROD) for the Southern Intertie Project. The decision of RUS is that the National Environmental Policy Act process is satisfied with respect to a request for financing assistance from Golden Valley Electric Association (GVEA) for its share of the cost of constructing the Southern Intertie Project. The project being proposed by the Intertie Participants Group (IPG), of which GVEA is a member, is the construction of a 138 kilovolt (kV) transmission line between the Kenai Peninsula and Anchorage, Alaska. The construction of the project will be undertaken in accordance with the FEIS.

FOR INFORMATION CONTACT: Lawrence R. Wolfe, Senior Environmental Protection Specialist, Engineering and Environmental Staff, USDA Rural Utilities Service, Stop 1571, 1400 Independence Avenue, SW., Washington, DC 20250-1571, telephone (202) 720-1784, fax (202) 720-0820. The e-mail address is: lwolfe@rus.usda.gov.

SUPPLEMENTARY INFORMATION: The RUS preferred alternative, the Tesoro Route, would connect the Bernice Lake Substation on the Kenai Peninsula with the Pt. Woronzof Substation in Anchorage. This alternative would parallel the Tesoro Pipeline from the Captain Cook State Recreational Area to Pt. Possession (Route A). At Pt. Possession three options are available to cross the Turnagain Arm and terminate at the Pt. Woronzof Substation. Route Option B crosses the Turnagain Arm via Fire Island to the Pt. Woronzof Substation. Route Option C crosses the Turnagain Arm directly from Pt. Possession to a landing at the Pt. Woronzof Substation. Route Option D would cross the Turnagain Arm from Pt. Possession to Pt. Campbell. From the Pt. Campbell landing, this alternative would continue to parallel the Tesoro pipeline through Kincaid Park and terminate at the Pt. Woronzof Substation (Route Option N).

As stated in the Final Environmental Impact Statement (FEIS), the RUS preferred alternative route between Pt. Possession and Anchorage is Route Option D/N. However, RUS considers both Route Options B and C acceptable alternatives.

Notices of availability of the FEIS were published in the Federal Register on July 10, 2002, at 67 FR 45701, by RUS and on July 12, 2002, at 67 FR 46185 by EPA. The 30-day comment period ended on August 12, 2002. Comments were received from 2 agencies and 5 non-profit organizations. No new issues or concerns were identified in these comments.

The RUS is the lead Federal agency in the environmental review process. The U.S. Fish and Wildlife Service (USFWS) and the U.S. Army Corps of Engineers (USACE) are serving as cooperating agencies. The USFWS' ROD was issued on September 11, 2002. The USACE's ROD is pending.

Agencies, persons, and organizations on the FEIS mailing list will receive a copy of each agency's ROD. The RUS' ROD is available online at http://www.usda.gov/rus/water/ees/eis.htm. The USFWS' ROD is available online at http://www.r7.fws.gov/compatibility/completed/kenai/kenai.cfm.

Dated: October 2, 2002.
Blaine D. Stockton,
Assistant Administrator, Electric Program, Rural Utilities Service.

[FR Doc. 02-25703 Filed 10-8-02; 8:45 am]

BILLING CODE 3410-15-P